DEPARTMENT OF ENERGY

Federal Energy Regulatory Commission

Sunshine Act Meeting

January 12, 2005.

The following notice of meeting is published pursuant to section 3(a) of the government in the Sunshine Act (Pub. L. 94-409), 5 U.S.C. 552b:

Agency Holding Meeting: Federal Energy Regulatory Commission.

Date and Time: January 19, 2005, 10 AM.

Place: Room 2C, 888 First Street NE., Washington, DC 20426.

Status: Open.

Matters to be Considered: Agenda.

*Note—Items listed on the agenda may be deleted without further notice.

Contact person for more Information: Magalie R. Salas, Secretary, Telephone (202) 502-8400. For a recorded listing items stricken from or added to the meeting, call (202) 502-8627.

This is a list of matters to be considered by the Commission. It does not include a listing of all papers relevant to the items on the agenda; however, all public documents may be examined in the Public Reference Room.

878th Meeting—Regular Meeting

January 19, 2005—10 a.m.

Administrative Agenda

Item No.; Docket No.; Company

A-1.

AD02-1-000, Agency Administrative Matters

A-2.

AD02-7-000, Customer Matters, Reliability, Security and Market Operations

A-3.

M005-1-000, Report on Compliance Evaluations for Standards of Conduct for Transmission Providers

Markets, Tariffs, and Rates—Electric

E-1.

RM05-4-000, Interconnection for Wind Energy and Other Alternative Technologies

E-2.

TX04-2-001, Nevada Power Company

E-3.

EL03-236-001, PJM Interconnection, L.L.C.

EL03-236-002, PJM Interconnection, L.L.C.

EL03-236-003, PJM Interconnection, L.L.C.

PL04-2-000, Compensation for Generating Units Subject to Local Market Power Mitigation in Bid-Based Markets

E-4.

Omitted

E-5.

Omitted

E-6.

Omitted

E-7,

Omitted

E-8.

Omitted

E-9.

ER05-109-000, Southwest Power Pool, Inc.

E-10.

ER04-1096-001, Southwest Power Pool, Inc.

ER04-1096-002, Southwest Power Pool, Inc.

E-11.

Omitted

E-12.

Omitted

E-13.

Omitted

E-14.

Omitted

E-15.

ER05-222-000, Diablo Winds, LLC

ER05-222-001 Diablo Winds, LLC

E-16.

ER05-325-000, Credit Suisse First Boston Energy, LLC

ER01-2656-002, Credit Suisse First Boston International

ER01-2656-003, Credit Suisse First Boston International

ER05-327-000, Credit Suisse First Boston International

E-17.

Omitted

E-18.

ER04-948-001, Detroit Edison Company, DTE East China, LLC and DTE River Rouge No. 1 LLC

ER04-948-002, Detroit Edison Company, DTE East China, LLC and DTE River Rouge No. 1 LLC

E-19.

Omitted

E-20.

RT04-1-006, Southwest Power Pool, Inc.

ER04-48-006, Southwest Power Pool, Inc.

E-21.

EL04-129-000, Central Iowa Power Cooperative v. Midwest Independent Transmission System Operator, Inc.

E-22.

EL05-31-000, Decatur Energy Center, LLC

QF01-103-003, Decatur Energy Center, LLC

E-23.

EL05-39-000, ANP Funding I, LLC v. ISO New England, Inc. and New England Power Pool

E-24.

Omitted

E-25.

Omitted

E-26.

TX96-4-001, Suffolk County Electrical Agency

E-27.

ER04-691-013, Midwest Independent Transmission System Operator, Inc.

ER04-106-006, Midwest Independent Transmission System Operator, Inc.

EL04-104-012, Public Utilities With Grandfathered Agreements in the Midwest ISO Region

E-28.

ER04-641-000, Duke Energy Lee, LLC

ER04-641-001, Duke Energy Lee, LLC

ER04-641-002, Duke Energy Lee, LLC

E-29.

ER04-738-000, Midwest Independent Transmission System Operator, Inc.

ER04-738-001, Midwest Independent Transmission System Operator, Inc.

E-30.

ER04-714-000, Florida Power & Light Company—New England Division

E-31.

ER04-638-000, Entergy Services, Inc.

E-32.

Omitted

E-33.

Omitted

E-34.

Omitted

E-35.

Omitted

E-36.

EL03-234-001, Nine Mile Point Nuclear Station, LLC v. Niagara Mohawk Power Corporation

E-37.

Omitted

E-38.

Omitted

E-39.

EL03-204-001, AES Somerset, LLC v. Niagara Mohawk Power Corporation

E-40.

Omitted

E-41.

Omitted

E-42.

ER04-835-004, California Independent System Operator Corporation

ER04-835-005, California Independent System Operator Corporation

E-43.

ER04-767-001, PacifiCorp

ER04-767-002, PacifiCorp

E-44.

Omitted

E-45.

ER04-691-011, Midwest Independent Transmission System Operator, Inc.

EL04-104-010, Public Utilities With Grandfathered Agreements in the Midwest ISO Region

E-46.

EC04-126-000, Northern Iowa Windpower II LLC

E-47.

ER93-465-033, Florida Power & Light Company

ER96-417-002, Florida Power & Light Company

ER96-1375-003, Florida Power & Light Company

OA96-39-010, Florida Power & Light Company

OA97-245-003, Florida Power & Light Company

E-48.

Omitted

E-49.

Omitted

Markets, Tariffs, and Rates—Gas

G-1.

RP04-92-001, Georgia Public Service Commission

RP04-92-002, Georgia Public Service Commission

G-2.

RP03-221-000, High Island Offshore System, L.L.C.

G-3.

RP04-201-002, ANR Pipeline Company

RP04-201-003, ANR Pipeline Company

G-4.

RP04-255-002, Columbia Gas Transmission Corporation

G-5.

RP04-398-001, East Tennessee Natural Gas, LLC

RP04-398-002, East Tennessee Natural Gas, LLC

CP01-415-018, East Tennessee Natural Gas, LLC

G-6.

RP03-542-001, Texas Eastern Transmission, LP

RP04-129-000, Texas Eastern Transmission, LP

RP04-359-000, Texas Eastern Transmission, LP

G-7.

RP04-565-002, Northwest Pipeline Corporation

Energy Projects—Hydro

H-1.

P-2543-063, Clark Fork and Blackfoot, LLC

P-2543-065, The Montana Power Company

H-2.

Omitted

H-3.

P-12522, Green Island Power Authority

H-4.

Omitted

H-5.

Omitted

H-6.

P-2100-129, California Department of Water Resources

H-7.

P-2169-020, Alcoa Power Generating, Inc.

Energy Projects—Certificates

C-1.

CP04-60-000, Tennessee Gas Pipeline Company

C-2.

CP04-340-000, Southern Natural Gas Company

C-3.

CP97-169-004, Alliance Pipeline, L.P.

C-4.

CP04-101-000, Columbia Natural Resources, LLC

C-5.

CP05-5-000, Questar Pipeline Company

C-6.

CP05-28-000, Seafarer U.S. Pipeline System Inc.

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 05-1108 Filed 1-14-05; 11:33 am]

BILLING CODE 6717-01-P